DEPARTMENT OF LABOR

Occupational Safety and Health Administration

[Docket No. OSHA-2021-0005]

Labtest Certification Inc.: Grant of Expansion of Recognition

AGENCY: Occupational Safety and Health Administration (OSHA), Labor.

ACTION: Notice.

SUMMARY: In this notice, OSHA announces the final decision to expand the scope of recognition for Labtest Certification Inc., as a Nationally Recognized Testing Laboratory (NRTL).

DATES: The expansion of scope of recognition becomes effective on January 30, 2024.

FOR FURTHER INFORMATION CONTACT: Information regarding this notice is available from the following sources:

Press inquiries: Contact Mr. Frank Meilinger, Director, OSHA Office of Communications, phone: (202) 693-1999 or email: meilinger.francis2@dol.gov.

General and technical information: Contact Mr. Kevin Robinson, Director, Office of Technical Programs and Coordination Activities, Directorate of Technical Support and Emergency Management, Occupational Safety and Health Administration, phone: (202) 693-1911 or email: robinson.kevin@dol.gov.

SUPPLEMENTARY INFORMATION:

I. Notice of Final Decision

OSHA hereby gives notice of the expansion of the scope of recognition for Labtest Certification Inc. (LCI). LCI's expansion covers the addition of nine test standards to the NRTL scope of recognition.

OSHA recognition of a NRTL signifies that the organization meets the requirements specified in 29 CFR 1910.7. Recognition is an acknowledgment that the organization can perform independent safety testing and certification of the specific products covered within the scope of recognition. Each NRTL's scope of recognition includes: (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in appendix A to 29 CFR 1910.7. This appendix requires that the agency publish two notices in the Federal Register in processing an application. In the first notice, OSHA announces the application and provides a preliminary finding. In the second notice, the agency provides a final decision on the application. These notices set forth the NRTL's scope of recognition or modifications of that scope. OSHA maintains an informational web page for each NRTL, including LCI, which details the NRTL's scope of recognition. These pages are available from the OSHA website at: https://www.osha.gov/nationally-recognized-testing-laboratory-program.

LCI submitted an application dated March 8, 2022 (OSHA-2021-0005-0005), requesting the addition of ten test standards to the NRTL scope of recognition. That application was updated on June 26, 2023 (OSHA-2021-0005-0006), to remove one standard from the original submission. This expansion will cover the remaining nine standards. OSHA staff performed a detailed analysis of the application packet and reviewed other pertinent information. OSHA did not perform any on-site reviews in relation to this application.

OSHA published the preliminary notice announcing LCI's expansion application in the Federal Register on December 1, 2023 (88 FR 83972). The agency requested comments by December 18, 2023, but it received no comments in response to this notice. OSHA is now proceeding with this final notice to grant expansion of LCI's NRTL scope of recognition.

To review copies of all public documents pertaining to LCI's application, go to http://www.regulations.gov or contact the Docket Office, Occupational Safety and Health Administration, U.S. Department of Labor at (202) 693-2350. Docket No. OSHA-2021-0005 contains all materials in the record concerning LCI's recognition. All submissions, including copyrighted material, are available for inspection through the OSHA Docket Office. Contact the OSHA Docket Office at (202) 693-2350 for assistance in locating docket submissions.

II. Final Decision and Order

OSHA staff examined LCI's expansion application, its capability to meet the requirements of the test standards, and other pertinent information. Based on its review of this evidence, OSHA finds that LCI meets the requirements of 29 CFR 1910.7 for expansion of its recognition, subject to the limitations and conditions. OSHA, therefore, is proceeding with this final notice to grant LCI's expanded scope of recognition. OSHA limits the expansion of LCI's recognition to include the testing and certification of products for demonstration of conformance to the test standards shown below in Table 1.

Table 1—List of Appropriate Test Standards for Inclusion in LCI's NRTL Scope of Recognition
Test standard | Test standard title
UL 48 | Electric Signs.
UL 508 | Electric Industrial Control Equipment.
UL 508A | Industrial Control Panels.
UL 61010-1 | Electrical Equipment for Measurement, Control and Laboratory Use; Part 1: General Requirements.
UL 62368-1 | Audio/Video, Information and Communication Technology Equipment—Part 1: Safety Requirements.
UL 8750 | Standard for Light Emitting Diode (LED) Equipment for Use in Lighting Products.
NFPA 496 | Purged and Pressurized Enclosures for Electrical Equipment.
UL 1203 | Explosion-Proof and Dust-Ignition-Proof Electrical Equipment for Use in Hazardous (Classified) Locations.
UL 121201 | Nonincendive Electrical Equipment for Use in Class I and II, Division 2 and Class III, Divisions 1 and 2 Hazardous (Classified) Locations.

OSHA's recognition of any NRTL for a particular test standard is limited to equipment or materials for which OSHA standards require third-party testing and certification before using them in the workplace. Consequently, if a test standard also covers any products for which OSHA does not require such testing and certification, a NRTL's scope of recognition does not include these products.

A. Conditions

Recognition is contingent on continued compliance with 29 CFR 1910.7, including but not limited to, abiding by the following conditions of recognition:

1. LCI must inform OSHA as soon as possible, in writing, of any change of ownership, facilities, or key personnel, and of any major change in its operations as a NRTL, and provide details of the change(s);

2. LCI must meet all the terms of its recognition and comply with all OSHA policies pertaining to this recognition; and

3. LCI must continue to meet the requirements for recognition, including all previously published conditions on LCI's scope of recognition, in all areas for which it has recognition.

Pursuant to the authority in 29 CFR 1910.7, OSHA hereby expands the scope of recognition of LCI as a NRTL, subject to the limitations and conditions specified above.

III. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on January 24, 2024.
James S. Frederick,
Deputy Assistant Secretary of Labor for Occupational Safety and Health.

[FR Doc. 2024-01795 Filed 1-29-24; 8:45 am]

BILLING CODE 4510-26-P